FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 24, 2008.

A. Federal Reserve Bank of St. Louis (Glenda Wilson, Community Affairs Officer) 411 Locust Street, St. Louis, Missouri 63166-2034:

1. Carol S. Alderton, Kahoka, Missouri, to acquire voting shares of Memphis Bancshares, Inc., and thereby indirectly acquire voting shares of Community Bank of Memphis, both of Memphis, Missouri.

2. David F. Alderton, Jr., Gorin, Missouri, and Brian W. Alderton, Kahoka, Missouri, to individually and collectively acquire voting shares of Clark County Bancshares, Inc., Wyaconda, Missouri, and thereby indirectly acquire voting shares of Peoples Bank of Wyaconda, Kahoka, Missouri.

B. Federal Reserve Bank of San Francisco (Kenneth Binning, Director, Regional and Community Bank Group) 101 Market Street, San Francisco, California 94105-1579:

1. Craig Allen White and Julie White, both of Beaver, Utah; Brent R. White and Julie H. White, both of Elsinore, Utah; the Robert B. White Jr. Family Trust, and the Elinor B. White Family Trust, Susan Williams, all of Redlands, California; Eric White, Glendale, California; and Cheryl W. Newton and George F. Newton, both of Morgan, Utah, a family group, to retain voting shares of Utah Independent Bank, Salina, Utah; and Craig Allen White, individually to acquire additional voting shares of Utah Independent Bank, Salina, Utah.

Board of Governors of the Federal Reserve System, June 4, 2008.
Robert deV. Frierson,
Deputy Secretary of the Board.

[FR Doc. E8-12883 Filed 6-9-08; 8:45 am]

BILLING CODE 6210-01-S